DEPARTMENT OF ENERGY

Federal Energy Regulatory Commission

[Project No. 6634-003]

Shasta Meadows, Inc.; Notice of Intent To Prepare an Environmental Assessment

On February 8, 2019, Shasta Meadows, Inc. (exemptee) filed an application to surrender its exemption from licensing for the Prather Creek Project No. 6634. The project is located on Prather Creek, in Siskiyou County, California. The project does not occupy Federal lands.

The exemptee proposes to surrender its exemption for the project. The power purchasing agreement for the project expired in 2013. Currently, the project is non-operational and no water flows through the penstock. The exemptee proposes to leave all project works secured in place including the powerhouse and generator. A Notice of Application for Surrender of Exemption, Soliciting Comments, Motions to Intervene, and Protest was issued on December 12, 2022.

This notice identifies Commission staff's intention to prepare an environmental assessment (EA) for the project.¹ The planned schedule for the completion of the EA is November 21, 2024. Revisions to the schedule may be made as appropriate. The EA will be issued and made available for review by all interested parties and a 30-day public comment period. All comments filed on the EA will be reviewed by staff and considered in the Commission's final decision on the proceeding.

¹ In accordance with the Council on Environmental Quality's regulations, the unique identification number for documents relating to this environmental review is EAXX-019-20-000-1726749309. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Rebecca Martin at (202) 502-6012 or Rebecca.martin@ferc.gov.

Dated: September 24, 2024.
Debbie-Anne A. Reese,
Acting Secretary.

[FR Doc. 2024-22426 Filed 9-30-24; 8:45 am]

BILLING CODE 6717-01-P